DEPARTMENT OF VETERANS AFFAIRS

[OMB Control No. 2900-New (VA Form 10-0515]

Proposed Information Collection (Spinal Cord Injury Patient Care Survey) Activity: Comment Request

AGENCY: Veterans Health Administration, Department of Veterans Affairs.

ACTION: Notice.

SUMMARY: The Veterans Health Administration (VHA), Department of Veterans Affairs (VA), is announcing an opportunity for public comment on the proposed collection of certain information by the agency. Under the Paperwork Reduction Act (PRA) of 1995, Federal agencies are required to publish notice in the Federal Register concerning each proposed collection of information, including each proposed new collection and allow 60 days for public comment in response to the notice. This notice solicits comments on information needed to assess veteran's perception of satisfaction with VA rehabilitation and health care.

DATES: Written comments and recommendations on the proposed collection of information should be received on or before November 14, 2011.

ADDRESSES: Submit written comments on the collection of information through the Federal Docket Management System (FDMS) at http://www.Regulations.gov; or to Cynthia Harvey-Pryor, Veterans Health Administration (193E1), Department of Veterans Affairs, 810 Vermont Avenue, NW., Washington, DC 20420 or e-mail: cynthia.harvey-pryor@va.gov. Please refer to “OMB Control No. 2900-New (VA Form 10-0515)” in any correspondence. During the comment period, comments may be viewed online through FDMS.

FOR FURTHER INFORMATION CONTACT: Cynthia Harvey-Pryor (202) 461-5870 or FAX (202) 273-9387.

SUPPLEMENTARY INFORMATION: Under the PRA of 1995 (Pub. L. 104-13; 44 U.S.C. 3501-3521), Federal agencies must obtain approval from OMB for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Title: Spinal Cord Injury Patient Care Survey, VA Form 10-0515.

OMB Control Number: OMB Control No. 2900-New.

Type of Review: New Collection.

Abstract: Information collected on VA Form 10-0515 will be used to determine spinal cord patients' satisfaction with VA rehabilitation and health care system.

Affected Public: Individuals or households.

Estimated Annual Burden: 33.

Frequency of Response: One time.

Estimated Average Burden Per Respondents: 10 minutes.

Estimated Annual Responses: 600.

Dated: September 8, 2011.
By direction of the Secretary.
Denise McLamb,
Program Analyst, Enterprise Records Service.

[FR Doc. 2011-23346 Filed 9-12-11; 8:45 am]

BILLING CODE 8320-01-P